DEPARTMENT OF DEFENSE

Department of the Army

Notice of Intent To Grant Partially Exclusive Patent License to 3D-sensIR, Inc.; Stevenson Ranch, CA

AGENCY: Department of the Army, DoD.

ACTION: Notice of intent.

SUMMARY: In compliance with 35 U.S.C. 209(e) and 37 CFR 404.7(a)(1)(i), the Department of the Army hereby gives notice of its intent to grant to 3D-sensIR, Inc.; a corporation having its principle place of business at 25762 Hawthorne Place, Stevenson Ranch, CA 91381, a partially exclusive license, for their design and development of handheld 3D smart cameras with specific application in the areas of photorealistic 3D measurements in the fields of Architecture, Engineering, Construction (AEC), Utility Assets Management, Law Enforcement (i.e., crime and accident scene investigations), Real-Estate, Arts and Entertainment, Commercial Drones, Commercial Robotics and Logistics. The proposed license would be relative to the following:

• U.S. Patent Number 8,081,301 entitled “LADAR Transmitting and Receiving System and Method”, Inventors Stann, Giza and Lawler, Issue Date Dec. 20, 2011.

DATES: The prospective partially exclusive license may be granted unless within fifteen (15) days from the date of this published notice, the U.S. Army Research Laboratory receives written objections including evidence and argument that establish that the grant of the license would not be consistent with the requirements of 35 U.S.C. 209 and 37 CFR 404.7. Competing applications completed and received by the U.S. Army Research Laboratory within fifteen (15) days from the date of this published notice will also be treated as objections to the grant of the contemplated exclusive license.

Objections submitted in response to this notice will not be made available to the public for inspection and, to the extent permitted by law, will not be released under the Freedom of Information Act, 5 U.S.C. 552.

ADDRESSES: Send written objections to U.S. Army Research Laboratory Technology Transfer and Outreach Office, RDRL-DPT/Thomas Mulkern, Building 321 Room 110, Aberdeen Proving Ground, MD 21005-5425.

FOR FURTHER INFORMATION CONTACT: Thomas Mulkern, (410) 278-0889, email: ORTA@arl.army.mil

SUPPLEMENTARY INFORMATION: None.

Brenda S. Bowen,
Army Federal Register Liaison Officer.

[FR Doc. 2016-10264 Filed 5-2-16; 8:45 am]

BILLING CODE 5001-03-P